DEPARTMENT OF ENERGY

Federal Energy Regulatory Commission

[Project No. 13590-001]

Lockhart Power Company, Inc.; Notice Soliciting Scoping Comments

Take notice that the following hydroelectric application has been filed with the Commission and is available for public inspection.

a. Type of Application: Subsequent Minor License.

b. Project No.: P-13590-001.

c. Date filed: August 31, 2010.

d. Applicant: Lockhart Power Company, Inc.

e. Name of Project: Riverdale Hydroelectric Project.

f. Location: On the Enoree River, near Enoree, in Spartanburg and Laurens counties, South Carolina. The proposed project would not affect any federal lands.

g. Filed Pursuant to: Federal Power Act 16 U.S.C. 791 (a)-825(r).

h. Applicant Contacts: Bryan D. Stone, Chief Operating Officer, Lockhart Power Company, Inc., 420 River Street, P.O. Box 10, Lockhart, SC 29364; (864) 545-2211.

i. FERC Contact: Sarah Florentino at (202) 502-6863, or via email at Sarah.Florentino@ferc.gov.

j. Deadline for filing scoping comments: 60 days from the issuance date of this notice, or February 21, 2012.

All documents may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing, currently non-operational, Riverdale Project consists of: (1) A 12-foot high, 425-foot-long concrete gravity dam with 2-foot flashboards; (2) a 6.6-acre impoundment; (3) a headrace leading to a 110-foot-long steel penstock; (4) a powerhouse containing a single 1.24-megawatt turbine-generator unit; (5) a 510-foot-long tailrace channel; and (6) appurtenant facilities. Lockhart Power Company, Inc. proposes to repair or upgrade the turbine unit and return the project operation. The proposed project would generate about 5,318 megawatt hours annually.

m. A copy of the application is available for review at the Commission in the Public Reference Room, or may be viewed on the Commission's Web site at http://www.ferc.gov, using the “eLibrary” link. Enter the docket number, excluding the last three digits in the docket number field, to access the document. For assistance, contact FERC Online Support. A copy is available for inspection and reproduction at the address in item h above.

n. You may register online at http://www.ferc.gov/docs-filing/esubscription.asp to be notified via email of new filings and issuances related to this or other pending projects. For assistance, contact FERC Online Support.

o. Scoping Process.

The Commission staff intends to prepare a single Environmental Assessment (EA) for the Riverdale Hydroelectric Project, in accordance with the National Environmental Policy Act. The EA will consider both site-specific and cumulative environmental impacts and reasonable alternatives to the proposed action.

Commission staff does not propose to conduct any on-site scoping meetings at this time. Instead, we are soliciting comments, recommendations, and information on the Scoping Document (SD) issued on December 22, 2011.

Copies of the SD outlining the subject areas to be addressed in the EA were distributed to the parties on the Commission's mailing list and the applicant's distribution list. Copies of the SD may be viewed on the web at http://www.ferc.gov, using the “eLibrary” link. Enter the docket number, excluding the last three digits in the docket number field, to access the document. For assistance, call 1-(866) 208-3676, or for TTY, (202) 502-8659.

Dated: December 22, 2011.
Kimberly D. Bose,
Secretary.

[FR Doc. 2011-33634 Filed 12-30-11; 8:45 am]

BILLING CODE 6717-01-P